DEPARTMENT OF COMMERCE

International Trade Administration

[A-583-844, A-570-952]

Narrow Woven Ribbons With Woven Selvedge From Taiwan and the People's Republic of China: Amended Antidumping Duty Orders

AGENCY: Import Administration, International Trade Administration, Department of Commerce.

SUMMARY: Notice of amended antidumping duty orders.

FOR FURTHER INFORMATION CONTACT: Holly Phelps (Taiwan), AD/CVD Operations, Office 2, or Karine Gziryan (PRC), AD/CVD Operations, Office 4, Import Administration, International Trade Administration, U.S. Department of Commerce, 14th Street and Constitution Avenue, NW, Washington, DC 20230; telephone: (202) 482-0656 and (202) 482-4081, respectively.

SUPPLEMENTARY INFORMATION:

Background

On September 1, 2010, the Department published in the Federal Register the antidumping duty orders on narrow woven ribbons with woven selvedge (narrow woven ribbons) from Taiwan and the People's Republic of China (PRC). See Narrow Woven Ribbons with Woven Selvedge from Taiwan and the People's Republic of China: Antidumping Duty Orders, 75 FR 53632 (September 1, 2010) (Antidumping Duty Orders).

During the investigation involving narrow woven ribbons from Taiwan, we determined that a certain Taiwan unaffiliated supplier was not a producer of subject merchandise. See Notice of Final Determination of Sales at Less than Fair Value: Narrow Woven Ribbons with Woven Selvedge from Taiwan, 75 FR 41804 (July 19, 2010) (Taiwan Final Determination). The name of this supplier was disclosed as Hong Sin Co., Ltd. (Hong Sin) by respondent Dear Year Brothers Manufacturing Co., Ltd. (Dear Year), and as Hon Xin Co., Ltd. (Hon Xin) by respondent Shienq Huong Enterprise Co., Ltd./Hsien Chan Enterprise Co., Ltd./Novelty Handicrafts Co., Ltd. (collectively, Shienq Huong). See the respondents' submissions dated August 24, 2010. Information on the record of this investigation establishes that Hong Sin and Hon Xin both refer to the same Taiwan company.

In the Taiwan Final Determination, we excluded certain producer/exporter combinations from any order resulting from the investigation because these unaffiliated suppliers had margins of zero in the less-than-fair-value investigation. However, because Hong Sin and Hon Xin both refer to the same unaffiliated supplier and we determined that this company was not a producer of subject merchandise, neither Hong Sin nor Hon Xin should have been excluded from the antidumping duty order on narrow woven ribbons from Taiwan. Yet, Hon Xin was inadvertently included as part of a Shienq Huong producer/exporter combination excluded from the antidumping duty order. See Antidumping Duty Orders, 75 FR at 53633. We are amending the antidumping duty order to accurately reflect our final determination by removing Hon Xin Co., Ltd./Shienq Huong from the list of producer/exporter combinations excluded from the order.

In addition, the Antidumping Duty Orders stated that, for the PRC separate rate respondents, the Department will instruct U.S. Customs and Border Protection (CBP) to require an antidumping duty cash deposit or the posting of a bond for each entry equal to the determined margin. However, we will be instructing CBP to only require a cash deposit, not the posting of a bond.

Finally, in the Antidumping Duty Orders, the Department stated that it will instruct CBP to terminate the suspension of liquidation for entries of narrow woven ribbons from Taiwan and the PRC entered or withdrawn from warehouse, for consumption prior to August 25, 2010. See Antidumping Duty Orders, 75 FR at 53634. However, the International Trade Commission's (ITC) final determination was published on September 1, 2010. See Narrow Woven Ribbons With Woven Selvedge From China and Taiwan, 75 FR 53711 (September 1, 2010). Therefore, pursuant to section 736(b)(2) of the Tariff Act of 1930, as amended (the Act), the Department will instruct CBP to terminate the suspension of liquidation for entries of narrow woven ribbons from Taiwan and the PRC entered or withdrawn from warehouse, for consumption prior to September 1, 2010, and refund any cash deposits made and release any bonds posted between the publication of the Department's preliminary determinations on February 18, 2010, and the publication of the ITC's final determination.

Scope of the Orders

The scope of the orders covers narrow woven ribbons with woven selvedge, in any length, but with a width (measured at the narrowest span of the ribbon) less than or equal to 12 centimeters, composed of, in whole or in part, man-made fibers (whether artificial or synthetic, including but not limited to nylon, polyester, rayon, polypropylene, and polyethylene teraphthalate), metal threads and/or metalized yarns, or any combination thereof. Narrow woven ribbons subject to the orders may:

• Also include natural or other non-man-made fibers;

• Be of any color, style, pattern, or weave construction, including but not limited to single-faced satin, double-faced satin, grosgrain, sheer, taffeta, twill, jacquard, or a combination of two or more colors, styles, patterns, and/or weave constructions;

• Have been subjected to, or composed of materials that have been subjected to, various treatments, including but not limited to dyeing, printing, foil stamping, embossing, flocking, coating, and/or sizing;

• Have embellishments, including but not limited to appliqué, fringes, embroidery, buttons, glitter, sequins, laminates, and/or adhesive backing;

• Have wire and/or monofilament in, on, or along the longitudinal edges of the ribbon;

• Have ends of any shape or dimension, including but not limited to straight ends that are perpendicular to the longitudinal edges of the ribbon, tapered ends, flared ends or shaped ends, and the ends of such woven ribbons may or may not be hemmed;

• Have longitudinal edges that are straight or of any shape, and the longitudinal edges of such woven ribbon may or may not be parallel to each other;

• Consist of such ribbons affixed to like ribbon and/or cut-edge woven ribbon, a configuration also known as an “ornamental trimming;”

• Be wound on spools; attached to a card; hanked (i.e., coiled or bundled); packaged in boxes, trays or bags; or configured as skeins, balls, bateaus or folds; and/or

• Be included within a kit or set such as when packaged with other products, including but not limited to gift bags, gift boxes and/or other types of ribbon.

Narrow woven ribbons subject to the orders include all narrow woven fabrics, tapes, and labels that fall within this written description of the scope of these antidumping duty orders.

Excluded from the scope of the orders are the following:

(1) Formed bows composed of narrow woven ribbons with woven selvedge;

(2) “Pull-bows” (i.e., an assemblage of ribbons connected to one another, folded flat and equipped with a means to form such ribbons into the shape of a bow by pulling on a length of material affixed to such assemblage) composed of narrow woven ribbons;

(3) Narrow woven ribbons comprised at least 20 percent by weight of elastomeric yarn (i.e., filament yarn, including monofilament, of synthetic textile material, other than textured yarn, which does not break on being extended to three times its original length and which returns, after being extended to twice its original length, within a period of five minutes, to a length not greater than one and a half times its original length as defined in the Harmonized Tariff Schedule of the United States (HTSUS), Section XI, Note 13) or rubber thread;

(4) Narrow woven ribbons of a kind used for the manufacture of typewriter or printer ribbons;

(5) Narrow woven labels and apparel tapes, cut-to-length or cut-to-shape, having a length (when measured across the longest edge-to-edge span) not exceeding eight centimeters;

(6) Narrow woven ribbons with woven selvedge attached to and forming the handle of a gift bag;

(7) Cut-edge narrow woven ribbons formed by cutting broad woven fabric into strips of ribbon, with or without treatments to prevent the longitudinal edges of the ribbon from fraying (such as by merrowing, lamination, sono-bonding, fusing, gumming or waxing), and with or without wire running lengthwise along the longitudinal edges of the ribbon;

(8) Narrow woven ribbons comprised at least 85 percent by weight of threads having a denier of 225 or higher;

(9) Narrow woven ribbons constructed from pile fabrics (i.e., fabrics with a surface effect formed by tufts or loops of yarn that stand up from the body of the fabric);

(10) Narrow woven ribbon affixed (including by tying) as a decorative detail to non-subject merchandise, such as a gift bag, gift box, gift tin, greeting card or plush toy, or affixed (including by tying) as a decorative detail to packaging containing non-subject merchandise;

(11) Narrow woven ribbon that is (a) affixed to non-subject merchandise as a working component of such non-subject merchandise, such as where narrow woven ribbon comprises an apparel trimming, book marker, bag cinch, or part of an identity card holder, or (b) affixed (including by tying) to non-subject merchandise as a working component that holds or packages such non-subject merchandise or attaches packaging or labeling to such non-subject merchandise, such as a “belly band” around a pair of pajamas, a pair of socks or a blanket;

(12) Narrow woven ribbon(s) comprising a belt attached to and imported with an item of wearing apparel, whether or not such belt is removable from such item of wearing apparel; and

(13) Narrow woven ribbon(s) included with non-subject merchandise in kits, such as a holiday ornament craft kit or a scrapbook kit, in which the individual lengths of narrow woven ribbon(s) included in the kit are each no greater than eight inches, the aggregate amount of narrow woven ribbon(s) included in the kit does not exceed 48 linear inches, none of the narrow woven ribbon(s) included in the kit is on a spool, and the narrow woven ribbon(s) is only one of multiple items included in the kit.

The merchandise subject to these orders is classifiable under the HTSUS statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. The HTSUS statistical categories and subheadings are provided for convenience and customs purposes; however, the written description of the merchandise covered by these orders is dispositive.

Amended Antidumping Duty Orders

On August 25, 2010, in accordance with section 735(d) of the Act, the ITC notified the Department of its final determination that an industry in the United States is threatened with material injury within the meaning of section 735(b)(1)(A)(ii) of the Act by reason of less-than-fair-value imports of narrow woven ribbons from Taiwan and the PRC. Therefore, in accordance with section 736(a)(1) of the Act, the Department will direct CBP to assess, upon further instruction by the Department, antidumping duties equal to the amount by which the normal value of the merchandise exceeds the U.S. price of the merchandise for all relevant entries of narrow woven ribbons from Taiwan and the PRC, except for imports of narrow woven ribbons from those combinations of producers and exporters identified below:¹

¹ We note that Shienq Huong has not disclosed for the public record the name of a certain unaffiliated supplier. Therefore, upon public disclosure of this information to the Department, we will notify CBP that Shienq Huong's exports of merchandise produced by this unaffiliated company have a less-than-fair-value investigation margin of zero and thus are excluded from any order resulting from this investigation. Until and unless such public disclosure is made, we will notify CBP that all entries of merchandise produced by Shienq Huong's undisclosed unaffiliated supplier will be subject to the “all others” rate established in this proceeding. See Taiwan Final Determination, 75 FR at 41807.

Exporter | Producer
Taiwan
Dear Year Brothers Manufacturing Co., Ltd | Dear Year Brothers Manufacturing Co., Ltd.
Dear Year Brothers Manufacturing Co., Ltd | Fool Shing Enterprise Co., Ltd.
Dear Year Brothers Manufacturing Co., Ltd | Hong Tai Enterprise.
Shienq Huong Enterprise Co., Ltd./Hsien Chan Enterprise Co., Ltd./Novelty Handicrafts Co., Ltd | Shienq Huong Enterprise Co., Ltd./Hsien Chan Enterprise Co., Ltd./Novelty Handicrafts Co., Ltd.
Shienq Huong Enterprise Co., Ltd./Hsien Chan Enterprise Co., Ltd./Novelty Handicrafts Co., Ltd | Boa Shun Enterprise Co., Ltd.
Shienq Huong Enterprise Co., Ltd./Hsien Chan Enterprise Co., Ltd./Novelty Handicrafts Co., Ltd | Chi Hua Textile Corporate Ltd.
Shienq Huong Enterprise Co., Ltd./Hsien Chan Enterprise Co., Ltd./Novelty Handicrafts Co., Ltd | Chieng Xin Enterprise Co., Ltd.
Shienq Huong Enterprise Co., Ltd./Hsien Chan Enterprise Co., Ltd./Novelty Handicrafts Co., Ltd | Ching Yu Weaving String Corp.
Shienq Huong Enterprise Co., Ltd./Hsien Chan Enterprise Co., Ltd./Novelty Handicrafts Co., Ltd | Done Hong Enterprise Co., Ltd.
Shienq Huong Enterprise Co., Ltd./Hsien Chan Enterprise Co., Ltd./Novelty Handicrafts Co., Ltd | Guang Xing Zhi Zao Enterprise Co., Ltd.
Shienq Huong Enterprise Co., Ltd./Hsien Chan Enterprise Co., Ltd./Novelty Handicrafts Co., Ltd | Hang-Liang Company.
Shienq Huong Enterprise Co., Ltd./Hsien Chan Enterprise Co., Ltd./Novelty Handicrafts Co., Ltd | Hong-Tai Company.
Shienq Huong Enterprise Co., Ltd./Hsien Chan Enterprise Co., Ltd./Novelty Handicrafts Co., Ltd | Hua Yi Enterprise Co., Ltd.
Shienq Huong Enterprise Co., Ltd./Hsien Chan Enterprise Co., Ltd./Novelty Handicrafts Co., Ltd | Hung Cheng Enterprises Co., Ltd.
Shienq Huong Enterprise Co., Ltd./Hsien Chan Enterprise Co., Ltd./Novelty Handicrafts Co., Ltd | Hung Ching Enterprise Co., Ltd.
Shienq Huong Enterprise Co., Ltd./Hsien Chan Enterprise Co., Ltd./Novelty Handicrafts Co., Ltd | I Lai Enterprise Co., Ltd.
Shienq Huong Enterprise Co., Ltd./Hsien Chan Enterprise Co., Ltd./Novelty Handicrafts Co., Ltd | Ji Cheng Industry.
Shienq Huong Enterprise Co., Ltd./Hsien Chan Enterprise Co., Ltd./Novelty Handicrafts Co., Ltd | Le Quan Enterprise Co., Ltd.
Shienq Huong Enterprise Co., Ltd./Hsien Chan Enterprise Co., Ltd./Novelty Handicrafts Co., Ltd | Lei Di Si Corporation Ltd.
Shienq Huong Enterprise Co., Ltd./Hsien Chan Enterprise Co., Ltd./Novelty Handicrafts Co., Ltd | Oun Mao Co., Ltd.
Shienq Huong Enterprise Co., Ltd./Hsien Chan Enterprise Co., Ltd./Novelty Handicrafts Co., Ltd | Shang Yan Gong Ye She.
Shienq Huong Enterprise Co., Ltd./Hsien Chan Enterprise Co., Ltd./Novelty Handicrafts Co., Ltd | Sung-Chu Industry (a/k/a Qiao Zhi Industry).
Shienq Huong Enterprise Co., Ltd./Hsien Chan Enterprise Co., Ltd./Novelty Handicrafts Co., Ltd | Wei Xin Enterprise Co., Ltd.
Shienq Huong Enterprise Co., Ltd./Hsien Chan Enterprise Co., Ltd./Novelty Handicrafts Co., Ltd | Xin Jia Enterprise Co., Ltd.
Shienq Huong Enterprise Co., Ltd./Hsien Chan Enterprise Co., Ltd./Novelty Handicrafts Co., Ltd | Yi Chang Corp.
Shienq Huong Enterprise Co., Ltd./Hsien Chan Enterprise Co., Ltd./Novelty Handicrafts Co., Ltd | Yi Cheng Gong Ye She.
Shienq Huong Enterprise Co., Ltd./Hsien Chan Enterprise Co., Ltd./Novelty Handicrafts Co., Ltd | Yi Long Enterprise Co., Ltd.
Shienq Huong Enterprise Co., Ltd./Hsien Chan Enterprise Co., Ltd./Novelty Handicrafts Co., Ltd | Zheng Chi Chi Corp.
PRC
Yama Ribbons and Bows Co., Ltd | Yama Ribbons and Bows Co., Ltd.

For all other manufacturers/exporters, pursuant to section 736(b)(2) of the Act, duties shall be assessed on subject merchandise entered, or withdrawn from warehouse, for consumption on or after the date of publication of the ITC's notice of final determination, given that that determination is based on the threat of material injury, other than threat of material injury described in section 736(b)(1) of the Act. Section 736(b)(1) of the Act states that, ‘ {i}f the Commission, in its final determination under section 735(b), finds material injury or threat of material injury which, but for the suspension of liquidation under section 733(d)(2) would have led to a finding of material injury, then entries of the subject merchandise, the liquidation of which has been suspended under section 733(d)(2), shall be subject to the imposition of antidumping duties under section 731.” In addition, section 736(b)(2) of the Act requires CBP to release any bond or other security and refund any cash deposit made of estimated antidumping duties posted since the Department's preliminary antidumping duty determinations (i.e., February 18, 2010). See Narrow Woven Ribbons with Woven Selvedge from Taiwan: Preliminary Determination of Sales at Less Than Fair Value and Postponement of Final Determination, 75 FR 7236 (February 18, 2010); and Narrow Woven Ribbons with Woven Selvedge from the People's Republic of China: Preliminary Determination of Sales at Less Than Fair Value and Postponement of Final Determination, 75 FR 7244 (February 18, 2010).

Because the ITC's final determination is based on the threat of material injury and is not accompanied by a finding that injury would have resulted but for the imposition of suspension of liquidation of entries since the Department's preliminary determinations, section 736(b)(2) of the Act is applicable. According to section 736(b)(2) of the Act, where the ITC finds threat of material injury, duties shall only be assessed on subject merchandise entered, or withdrawn from warehouse, for consumption on or after the date of publication of the ITC's notice of final determination. In addition, section 736(b)(2) of the Act requires CBP to refund any cash deposits or bonds of estimated antidumping duties posted since the preliminary antidumping determinations and prior to the ITC's notice of final determination.

Therefore, on or after the date of publication of the ITC's notice of final determination in the Federal Register, except for imports of narrow woven ribbons from those combinations of producers and exporters identified above, CBP will require a cash deposit equal to the estimated dumping margins listed below, pursuant to section 736(a)(3) of the Act, at the same time that importers would normally deposit estimated duties on this merchandise. The “All Others” rate for Taiwan applies to all Taiwan producers or exporters not specifically listed and not specifically excluded. The PRC-wide rate applies to all PRC exporters of subject merchandise not specifically listed and not specifically excluded. The Department will also instruct CBP to terminate the suspension of liquidation for entries of narrow woven ribbons from Taiwan and the PRC entered or withdrawn from warehouse, for consumption prior to September 1, 2010, and refund any cash deposits made and release any bonds posted between the publication of the Department's preliminary determinations on February 18, 2010, and the publication of the ITC's final determination.

Final Determination Margins

The margins and cash deposit rates are as follows:

Exporter or producer | Margin (percent)
Taiwan
Roung Shu Industry Corporation | 4.37
All Others | 4.37

Exporter | Producer | Margin (percent)
PRC
Beauty Horn Investment Limited | Tianjin Sun Ribbon Co., Ltd | 123.83
Fujian Rongshu Industry Co., Ltd | Fujian Rongshu Industry Co., Ltd | 123.83
Guangzhou Complacent Weaving Co., Ltd | Guangzhou Complacent Weaving Co., Ltd | 123.83
Ningbo MH Industry Co., Ltd | Hangzhou City Linghu Jiacheng Silk Ribbon Co., Ltd | 123.83
Ningbo V.K. Industry & Trading Co., Ltd | Ningbo Yinzhou Jinfeng Knitting Factory | 123.83
Stribbons (Guangzhou) Ltd | Stribbons (Guangzhou) Ltd | 123.83
Stribbons (Guangzhou) Ltd | Stribbons (Nanyang) MNC Ltd. | 123.83
Sun Rich (Asia) Limited | Dongguan Yi Sheng Decoration Co., Ltd | 123.83
Tianjin Sun Ribbon Co., Ltd | Tianjin Sun Ribbon Co., Ltd | 123.83
Weifang Dongfang Ribbon Weaving Co., Ltd | Weifang Dongfang Ribbon Weaving Co., Ltd | 123.83
Weifang Yu Yuan Textile Co., Ltd | Weifang Yu Yuan Textile Co., Ltd | 123.83
Xiamen Yi He Textile Co., Ltd | Xiamen Yi He Textile Co., Ltd | 123.83
Yangzhou Bestpak Gifts & Crafts Co., Ltd | Yangzhou Bestpak Gifts & Crafts Co., Ltd | 123.83
PRC-wide entity ² |  | 247.65
² Ningbo Jintian Import & Export Co., Ltd. is included in the PRC-wide entity.

For the PRC separate rate respondents, we will instruct CBP to require an antidumping duty cash deposit for each entry equal to the margin indicated above, adjusted for the export subsidy rate determined in the countervailing duty final determination (i.e., International Market Development Fund Grants for Small and Medium Enterprises). See Narrow Woven Ribbons With Woven Selvedge From the People's Republic of China: Final Determination of Sales at Less Than Fair Value, 75 FR 41808, 41812 (July 19, 2010). See also Narrow Woven Ribbons with Woven Selvedge from the People's Republic of China: Final Affirmative Countervailing Duty Determination, 75 FR 41801 (July 19, 2010), and accompanying Issues and Decision Memorandum at section I.D. The adjusted cash deposit rate for the separate rate respondents (as listed above in the “Final Determination Margins” section, above) is 123.44 percent. These suspension-of-liquidation instructions will remain in effect until further notice.

This notice constitutes the amended antidumping duty orders with respect to narrow woven ribbons from Taiwan and the PRC, pursuant to section 736(a) of the Act. Interested parties may contact the Department's Central Records Unit, Room 7046 of the main Commerce Building, for copies of an updated list of antidumping duty orders currently in effect.

These amended orders are issued and published in accordance with section 736(a) of the Act and 19 CFR 351.211(b).

Dated: September 10, 2010.
Paul Piquado,
Acting Deputy Assistant Secretary for Import Administration.

[FR Doc. 2010-23350 Filed 9-16-10; 8:45 am]

BILLING CODE 3510-DS-P